Title 3—

The President

Proclamation 9907 of July 1, 2019

Pledge to America's Workers Month, 2019

By the President of the United States of America

A Proclamation

This month, we celebrate Pledge to America's Workers Month. Last year, I signed an Executive Order establishing the President's National Council for the American Worker. The Council, made up of 14 Federal agencies, is charged with developing a national strategy for training and reskilling workers for high-demand occupations and the industries of the future. The Federal Government, however, cannot do it alone. That is why we also launched the Pledge to America's Workers, a call-to-action for States and the private sector to create new education and training opportunities to better serve the American worker and encourage private investment in workforce development. As of today, a strong bipartisan majority of our Nation's Governors and more than 280 companies and associations have signed the Pledge, committing to create nearly 10 million enhanced career and training opportunities for America's workforce. On this inaugural Pledge to America's Workers Month, my Administration calls on more States and employers, both large and small, to sign the Pledge to strengthen the economy and ensure one of America's greatest assets—its workforce—is prepared for the jobs of today and tomorrow.

As President, I have worked to revitalize our country's economy and usher in a new era of American prosperity. Since taking office, 5.4 million jobs have been added to our Nation's economy. This year, wage growth hit its fastest pace in a decade, boosting the buying power of American workers. My Administration has unleashed an economic expansion that has brought a record number of Americans back into the labor market. Not only has the national unemployment rate dropped to 3.6 percent, the lowest rate in half a century, but unemployment has reached historic lows among minorities, veterans, and individuals with disabilities. In May, a record 75 percent of people who started that work had been out of the labor force the previous month rather than unemployed. In other words, we are bringing more people off the sidelines and into the labor force than ever before. We are striving for and achieving inclusive growth, so that all Americans, especially those who have been marginalized, can find meaningful work and the training needed to fill vacant jobs.

Our country's flourishing job market also poses exciting new opportunities. In each of the past 14 months, the United States has had more job openings than job seekers, meaning there remains room for even more Americans to enter the labor force. My Administration stands ready to help American workers gain the skills needed to fill the approximately 7.4 million open jobs. That is why last month, the Department of Labor launched the new Industry-Recognized Apprenticeship pathway, encouraging companies to offer on-the-job training in new, emerging, and high-growth sectors of our economy.

Throughout Pledge to America's Workers Month, we applaud the States, employers, and associations who have signed the Pledge. And we encourage those that have not yet signed the Pledge to do so and commit to new education and training opportunities over the next 5 years. Together, with the industrious spirit of the American workforce, we will build a more prosperous future for all generations.

NOW, THEREFORE, I, DONALD J. TRUMP, President of the United States of America, by virtue of the authority vested in me by the Constitution and the laws of the United States, do hereby proclaim July 2019 as Pledge to America's Workers Month.

IN WITNESS WHEREOF, I have hereunto set my hand this first day of July, in the year of our Lord two thousand nineteen, and of the Independence of the United States of America the two hundred and forty-third.

[FR Doc. 2019-14472

Filed 7-3-19; 8:45 am]

Billing code 3295-F9-P